NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by February 24, 2011. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

The applications received are as follows:

1. Applicant: R. Natalie P. Goodall, Sarmiento 44, 9410 Ushuaia, Tierra del Fuego, ARGENTINA.

Permit Application No. 2011-024.

Activity for Which Permit Is Requested

Take. The applicant plans to salvage skeletal remains of seabirds (especially penguins) from the shorelines of South Georgia, the South Shetlands, the Antarctic Peninsula and adjacent islands during visits of scientific, tourist or supply ships, or tourist yachts. The collected samples are very useful in the long-term project, “Aves y Mamiferos Marinos Australes” (AMMA) (study of Southern Marine Mammals and Birds) which have been carried out in Tierra del Fuego since 1976. Skeletons from Antarctic waters are especially useful in comparison with our skeletal collections from southern South America. All collected material will be cleaned, numbered and deposited in the RNP collection, which is housed in the Museo Acatushun de Aves y Mamiferos Marinos Australes at Estancia Harberton, Tierra del Fuego (inaugurated in 2001).

Location

South Georgia, the South Shetlands, the Antarctic Peninsula and adjacent islands.

Dates

March 1, 2011 to March 1, 2016.

1. Applicant: R. Natalie P. Goodall, Sarmiento 44, 410 Ushuaia, Tierra del Fuego, ARGENTINA.

Permit Application No. 2011-025.

Activity for Which Permit Is Requested

Take. The applicant plans to salvage skeletal remains of mammals (seals, dolphins, porpoises, or beaked whales) from the shorelines of South Georgia, the South Shetlands, the Antarctic Peninsula and adjacent islands during visits of scientific, tourist or supply ships, or tourist yachts. The collected samples are very useful in the long-term project, “Aves y Mamiferos Marinos Australes” (AMMA) (study of Southern Marine Mammals and Birds) which have been carried out in Tierra del Fuego since 1976. Skeletons from Antarctic waters are especially useful in comparison with our skeletal collections from southern South America. All collected material will be cleaned, numbered and deposited in the RNP collection, which is housed in the Museo Acatushun de Aves y Mamiferos Marinos Australes at Estancia Harberton, Tierra del Fuego (inaugurated in 2001).

Location

South Georgia, the South Shetlands, the Antarctic Peninsula and adjacent islands.

Dates

April 1, 2011 to April 1 2016.

Nadene G. Kennedy,
Permit Officer, Office of Polar Programs.

[FR Doc. 2011-1406 Filed 1-24-11; 8:45 am]

BILLING CODE 7555-01-P